FEDERAL RESERVE SYSTEM

Agency Information Collection Activities: Announcement of Board Approval Under Delegated Authority and Submission to OMB

AGENCY: Board of Governors of the Federal Reserve System.

SUMMARY: Background:

Notice is hereby given of the final approval of proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer--Michelle Shore--Division of Research and Statistics, Board of Governors of the Federal Reserve System, Washington, DC 20551 (202-452-3829)

OMB Desk Officer--Mark Menchik--Office of Information and Regulatory Affairs, Office of Management and Budget, New Executive Office Building, Room 10235, Washington, DC 20503, or e-mail to mmenchik@omb.eop.gov.

Final approval under OMB delegated authority of the extension for three years, with revision, of the following report:

Report title: The Government Securities Dealers Reports: Weekly Report of Dealer Positions (FR 2004A), Weekly Report of Cumulative Dealer Transactions (FR 2004B), Weekly Report of Dealer Financing and Fails (FR 2004C), Weekly Report of Specific Issues (FR 2004SI), Daily Report of Specific Issues (FR 2004SD), and Daily Report of Dealer Activity in Treasury Financing (FR 2004WI).

Agency form number: FR 2004.

OMB Control number: 7100-0003.

Frequency: Weekly, Daily.

Reporters: Primary dealers in the U.S. Government securities market.

Annual reporting hours: FR 2004A, 1,716 hours; FR 2004B, 2,288 hours; FR 2004C, 1,430 hours; FR 2004SI, 2,288 hours; FR 2004SD, 1,100 hours; FR 2004WI, 3,520 hours.Estimated average hours per response: FR 2004A, 1.5 hours; FR 2004B, 2.0 hours; FR 2004C, 1.25 hours; FR 2004SI, 2.0 hours; FR 2004SD, 2.0 hours; FR 2004WI, 1.0 hour.

Number of respondents: 22.

General description of report: This information collection is authorized pursuant to sections 11(a)(2), 14, and 19(c) of the Federal Reserve Act [12 U.S.C. 248(a)(2), 353-359, and 461(c)] and is required to obtain or retain a benefit. Individual respondent data are regarded as confidential under the Freedom of Information Act [5 U.S.C. 552(b)(4) and (b)(8)].

Abstract: The FR 2004A collects weekly data on dealers' outright positions in Treasury and other marketable debt securities. The FR 2004B collects cumulative weekly data on the volume of transactions made by dealers in the same instruments for which positions are reported on the FR 2004A. The FR 2004C collects weekly data on the amounts of dealer financing and fails. The FR 2004SI collects weekly data on outright, financing, and fails positions in current or on-the-run issues. Under certain circumstances this information is also collected on a daily basis on the FR 2004SD for on-the-run and off-the-run securities. The FR 2004WI collects daily data on positions in to-be-issued Treasury coupon securities, mainly the trading on a when-issued delivery basis. Data from the FR 2004SI, SD and WI are available to the Interagency Working Group (IAWG), which includes the Department of the Treasury, the Federal Reserve Bank of New York, the Federal Reserve Board, the Securities and Exchange Commission, and the Commodity Futures Trading Commission.

Current Actions: On November 16, 2006, the Federal Reserve published a notice in the Federal Register (71 FR 66780) requesting public comment for 60 days on the extension, with revision, of the Government Securities Dealers Reports. The comment period for this notice expired on January 16, 2007. The Federal Reserve did not receive any comments.

Board of Governors of the Federal Reserve System, January 29, 2007.
Jennifer J. Johnson,
Secretary of the Board.

[FR Doc. E7-1650; Filed 1-31-07; 8:45 am]

BILLING CODE 6210-01-S